FEDERAL COMMUNICATIONS COMMISSION

47 CFR Part 73

[DA 04-608; MB Docket No. 04-67; RM-10856]

Radio Broadcasting Services; Easthampton and Pittsfield, MA, and Malta, NY

AGENCY: Federal Communications Commission.

ACTION: Proposed rule.

SUMMARY: This document requests comments on a petition for rule making filed by Vox New York, LLC, licensee of Station WNYQ(FM) (“WNYQ”), Malta, New York, and Great Northern Radio, LLC, licensee of Station WBEC-FM, Pittsfield, Massachusetts. The licensees propose to upgrade Channel 289A, Station WNYQ, to Channel 289B1 and to reallot Channel 288A, Station WBEC-FM, from Pittsfield to Easthampton, Massachusetts. The reallotment of Channel 288A to Easthampton will provide Easthampton with its first local aural transmission service. The coordinates for requested Channel 289B1 at Malta, New York, are 42-58-17 NL and 73-40-52 WL, with a site restriction of 9.1 kilometers (5.7 miles) east of Malta. The coordinates for requested Channel 288A at Easthampton, Massachusetts, are 42-18-52 NL and 72-41-18 WL, with a site restriction of 5.5 kilometers (3.4 miles) north of Easthampton.

Petitioners' proposal complies with the provisions of Sections 1.420(g)(3) and (i) of the Commission's Rules, and therefore, the Commission will not accept competing expressions of interest in the use of Channel 289B1 at Malta, New York, or Channel 288A at Easthampton, Massachusetts, or require the licensees to demonstrate the availability of additional equivalent class channels for use by other parties.

DATES: Comments must be filed on or before May 3, 2004, and reply comments on or before May 18, 2004.

ADDRESSES: Secretary, Federal Communications Commission, 445 12th Street, SW., Room TW-A325, Washington, DC 20554. In addition to filing comments with the FCC, interested parties should serve the petitioner's counsel, as follows: David G. O'Neil, Esq., Rini Coran, PC; 1501 M Street, NW., Suite 500; Washington, DC 20005.

FOR FURTHER INFORMATION CONTACT: R. Barthen Gorman, Media Bureau, (202) 418-2180.

SUPPLEMENTARY INFORMATION: This is a synopsis of the Commission's Notice of Proposed Rule Making, MB Docket No. 04-67, adopted March 10, 2004, and released March 12, 2004. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Massachusetts, is amended by adding Easthampton, Channel 288A, and removing Channel 288A at Pittsfield.

3. Section 73.202(b), the Table of FM Allotments under New York, is amended by adding Channel 289B1 and removing Channel 289A at Malta.

Federal Communications Commission.
John A. Karousos,
Assistant Chief, Audio Division, Media Bureau.

[FR Doc. 04-6943 Filed 3-26-04; 8:45 am]

BILLING CODE 6712-01-P